DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act requires that public notice of this meeting be announced in the Federal Register.

DATES:

Monday, March 19, 2018—1:00 p.m.-4:30 p.m.

Tuesday, March 20, 2018—9:00 a.m.-5:00 p.m.

ADDRESSES: North Augusta Municipal Building, 100 Georgia Avenue, North Augusta, SC 29841.

FOR FURTHER INFORMATION CONTACT: Susan Clizbe, Office of External Affairs, Department of Energy, Savannah River Operations Office, P.O. Box A, Aiken, SC 29802; Phone: (803) 952-8281.

SUPPLEMENTARY INFORMATION:

Purpose of the Board: The purpose of the Board is to make recommendations to DOE-EM and site management in the areas of environmental restoration, waste management, and related activities.

Tentative Agenda

Monday, March 19, 2018

Opening, Chair Update, and Agenda Review

Agency Updates

Break

Administrative & Outreach Committee Update

Facilities Disposition & Site Remediation Committee Update

Nuclear Materials Committee Update

Strategic & Legacy Management Committee Update

Waste Management Committee Update

Integrated Priority List Discussion

Public Comments

Recess

Tuesday, March 20, 2018:

Reconvene

Agenda Review

Presentations

• Savannah River Site Remediation Projects

• Management and Disposal of DOE Spent Nuclear Fuel

Lunch Break

Presentations

• Sonar Mapping Technology

• H-Canyon and Aluminum Clad Highly Enriched Uranium

Break

Presentations

• Savannah River Archaeology

• Savannah River Site Natural Resources Management Plan

Public Comments

Voting

• Integrated Priority List Letter

Adjourn

Public Participation: The EM SSAB, Savannah River Site, welcomes the attendance of the public at its advisory committee meetings and will make every effort to accommodate persons with physical disabilities or special needs. If you require special accommodations due to a disability, please contact Susan Clizbe at least seven days in advance of the meeting at the phone number listed above. Written statements may be filed with the Board either before or after the meeting. Individuals who wish to make oral statements pertaining to agenda items should contact Susan Clizbe's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Susan Clizbe at the address or phone number listed above. Minutes will also be available at the following website: http://cab.srs.gov/srs-cab.html.

Issued at Washington, DC, on February 23, 2018.
LaTanya R. Butler,
Deputy Committee Management Officer.

[FR Doc. 2018-04098 Filed 2-27-18; 8:45 am]

BILLING CODE 6450-01-P